DEPARTMENT OF COMMERCE

Census Bureau

Agency Information Collection Activities; Submission to the Office of Management and Budget (OMB) for Review and Approval; Comment Request; Generic Clearance for Collection of State Administrative Records Data

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on February 16, 2024, during a 60-day comment period. This notice allows for an additional 30 days for public comments.

Agency: U.S. Census Bureau, Department of Commerce.

Title: Generic Clearance for Collection of State Administrative Records Data.

OMB Control Number: 0607-0995.

Form Number(s): Information will be collected in the form of a data transfer to the Census Bureau. No form will be used.

Type of Request: Regular submission, Request for an Extension of a currently approved collection.

Number of Respondents: 50 states, plus the District of Columbia.

Average Hours per Response: 75 hours.

Burden Hours: 3,825 hours.

Needs and Uses: The State administrative records will be integrated and linked with Census Bureau data from surveys and censuses and used to augment or streamline Census operations; improve the collection, analysis, and publication of data under Census Bureau's Title 13, U.S. Code (U.S.C) authorized censuses and surveys; improve methods of collecting program participation data; and conduct research to improve record linking methods.

The Census Bureau may provide copies of tabulated data of linked administrative, survey, and census data to state data sharing partners that are created by Census for Census research purposes. Tabulated data are subject to disclosure avoidance review prior to release. Data sharing and analysis of linked files are solely for statistical purposes, not for program enforcement. All State administrative records data are and will remain confidential, whether in their original form or when comingled or linked with survey and census data.

Affected Public: State governments.

Frequency: Initial data extract delivery followed by an annual data extract delivery through the duration of the terms of the agreement.

Respondent's Obligation: Voluntary.

Legal Authority: The authority for the Census Bureau to enter into these agreements is 13 U.S.C. 6, which permits the Census Bureau to access, by purchase or otherwise, information to assist the Census Bureau in the performance of duties under Title 13, United States Code. Other specific citations may apply per the data sharing partner.

This information collection request may be viewed at www.reginfo.gov. Follow the instructions to view Department of Commerce collections currently under review by OMB.

Written comments and recommendations for the proposed information collection should be sent within 30 days of publication of this notice on the following website www.reginfo.gov/public/do/PRAMain. Find this particular information collection by selecting “Currently under 30-day Review—Open for Public Comments” or by using the search function and entering either the title of the collection or the OMB Control Number 0607-0995.

Sheleen Dumas,
Department PRA Clearance Officer, Office of the Under Secretary for Economic Affairs, Commerce Department.

[FR Doc. 2024-11232 Filed 5-21-24; 8:45 am]

BILLING CODE 3510-07-P